DEPARTMENT OF LABOR

Bureau of Labor Statistics

Technical Advisory Committee; Notice of Meeting and Agenda

The Bureau of Labor Statistics Technical Advisory Committee will meet on Friday, June 16, 2017. The meeting will be held from 8:30 a.m. to 4:00 p.m. in the Postal Square Building, 2 Massachusetts Avenue, NE., Washington, DC.

The Committee provides advice and makes recommendations to the Bureau of Labor Statistics (BLS) on technical aspects of the collection and formulation of economic measures. The BLS presents issues and then draws on the expertise of Committee members representing specialized fields within the academic disciplines of economics, statistics, and survey design.

The meeting will be held in rooms 1-3 of the Postal Square Building Janet Norwood Conference Center. The schedule and agenda for the meeting are as follows:

8:30 a.m. Acting commissioner's welcome and review of agency developments

9:00 a.m. Disease-Based Price Indexes

10:45 a.m. The impact of alternative output concepts on productivity growth

2:00 p.m. Incorporating OSHA-collected data with the survey of occupational illness and injury

4:00 p.m. Approximate conclusion

The meeting is open to the public. Any questions concerning the meeting should be directed to Sarah Dale, Bureau of Labor Statistics Technical Advisory Committee, at 202-691-5643 or dale.sarah@bls.gov. Individuals who require special accommodations should contact Ms. Dale at least two days prior to the meeting date.

Signed at Washington, DC, this 10 day of May 2017.
Kimberley D. Hill,
Chief, Division of Management Systems, Bureau of Labor Statistics.

[FR Doc. 2017-10400 Filed 5-19-17; 8:45 am]

BILLING CODE 4510-24-P